DEPARTMENT OF ENERGY

Federal Energy Regulatory Commission

Combined Notice of Filings #1

November 13, 2007.

Take notice that the Commission received the following electric corporate filings:

Docket Numbers: EC08-12-000.

Applicants: Airtricity Munnsville Wind Farm, LLC; E.ON AG.

Description: E ON Ag and Airtricity Munnsville Wind Farm, LLC submits a joint application for authorization for disposition of jurisdictional facilities.

Filed Date: 11/06/2007.

Accession Number: 20071108-0275.

Comment Date: 5 p.m. Eastern Time on Tuesday, November 27, 2007.

Take notice that the Commission received the following exempt wholesale generator filings:

Docket Numbers: EG08-14-000.

Applicants: Barton Chapel Wind, LLC.

Description: Notice of Self-Certification of Exempt Wholesale Generator Status of Gamesa Technology Corporation.

Filed Date: 11/08/2007.

Accession Number: 20071108-5045.

Comment Date: 5 p.m. Eastern Time on Thursday, November 29, 2007.

Docket Numbers: EG08-15-000.

Applicants: James River Cogeneration Company.

Description: James River Cogeneration Co's Notice of Self-Certification of Exempt Wholesale Generator Status.

Filed Date: 11/09/2007.

Accession Number: 20071109-5037.

Comment Date: 5 p.m. Eastern Time on Friday, November 30, 2007.

Docket Numbers: EG08-16-000.

Applicants: Cogentrix Virginia Leasing Corporation.

Description: Cogentrix Virginia Leasing Corp's Notice of Self-Certification of Exempt Wholesale Generator Status.

Filed Date: 11/09/2007.

Accession Number: 20071109-5039.

Comment Date: 5 p.m. Eastern Time on Friday, November 30, 2007.

Docket Numbers: EG08-17-000.

Applicants: Primary Energy of North Carolina LLC.

Description: Exempt Wholesale Generator Notice of Self-Certification.

Filed Date: 11/09/2007.

Accession Number: 20071109-5054.

Comment Date: 5 p.m. Eastern Time on Friday, November 30, 2007.

Take notice that the Commission received the following electric rate filings:

Docket Numbers: ER03-478-017; ER06-200-010; ER07-254-002; ER03-1326-010; ER07-460-001; ER05-534-011; ER05-365-011; ER05-1262-009; ER06-1093-005; ER03-296-013; ER01-3121-012; ER02-418-011; ER03-416-014; ER05-332-011; ER07-287-004; ER07-242-004; ER03-951-013; ER04-94-011; ER02-417-011; ER07-1378-001; ER05-1146-011; ER05-481-011; ER07-240-005; ER07-195-002; ER02-2085-006.

Applicants: PPM Energy Inc.; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power LLC; Klondike Wind Power III LLC; MinnDakota Wind LLC; Moraine Wind LLC; Mountain View Power Partners III, LLC; Phoenix Wind Power LLC; Providence Heights Wind, LLC; Shiloh I Wind Project LLC; Trimont Wind I LLC; Twin Buttes Wind LLC; Locust Ridge Wind Farm, LLC; Northern Iowa Windpower LLC.

Description: Notification of Change in Status of PPM Energy, Inc., et al.

Filed Date: 11/09/2007.

Accession Number: 20071109-5035.

Comment Date: 5 p.m. Eastern Time on Friday, November 30, 2007.

Docket Numbers: ER03-506-003; ER06-1515-001; ER08-1-000.

Applicants: TXU Portfolio Management Company LP; Yuma Power Limited Liability Company.

Description: Notice of Change in Status Pursuant to Order Nos. 652 and 697 and Submission of Revised Rate Schedule Sheets of Luminant Energy Company LLC.

Filed Date: 11/09/2007.

Accession Number: 20071109-5091.

Comment Date: 5 p.m. Eastern Time on Friday, November 30, 2007.

Docket Numbers: ER07-157-002.

Applicants: Macquarie Cook Power, Inc.

Description: Macquarie Cook Power Inc. Notice of Affiliate Treatment for Purposes of the Affiliate Restrictions in 18 CFR Section 35.39.

Filed Date: 11/09/2007.

Accession Number: 20071108-5070.

Comment Date: 5 p.m. Eastern Time on Friday, November 30, 2007.

Docket Numbers: ER07-671-004.

Applicants: Trigen-St. Louis Energy Corporation.

Description: Trigen-St. Louis Energy Corporation submits its revised pages to its FERC Electric Rate Schedule 1.

Filed Date: 11/07/2007.

Accession Number: 20071109-0015.

Comment Date: 5 p.m. Eastern Time on Wednesday, November 28, 2007.

Docket Numbers: ER08-194-000.

Applicants: Duquesne Light Company.

Description: Duquesne Light Company requests that FERC approve the termination of its membership as a transmission owner and load-serving entity in PJM Interconnection, LLC etc.

Filed Date: 11/08/2007.

Accession Number: 20071109-0044.

Comment Date: 5 p.m. Eastern Time on Thursday, November 29, 2007.

Take notice that the Commission received the following open access transmission tariff filings:

Docket Numbers: OA07-103-001.

Applicants: Portland General Electric Company.

Description: Portland General Electric Company amended filing Attachment C—“Methodology to Assess Available Transmission Capability.”

Filed Date: 11/07/2007.

Accession Number: 20071107-5065.

Comment Date: 5 p.m. Eastern Time on Wednesday, November 28, 2007.

Take notice that the Commission received the following public utility holding company filings:

Docket Numbers: PH08-4-000.

Applicants: Texas Energy Future Capital Holdings LLC.

Description: FERC Form 65 B Waiver Notification of Texas Energy Future Capital Holdings LLC.

Filed Date: 11/09/2007.

Accession Number: 20071109-5026.

Comment Date: 5 p.m. Eastern Time on Friday, November 30, 2007.

Docket Numbers: PH08-5-000.

Applicants: TPG Partners V L.P.,TPG Partners IV L.P.,TPG FOF V-A, L.P.,TPG FOF V-B, L.P.

Description: FERC Form 65 B Waiver Notification of TPG Partners V L.P., et al.

Filed Date: 11/09/2007.

Accession Number: 20071109-5064.

Comment Date: 5 p.m. Eastern Time on Friday, November 30, 2007.

Docket Numbers: PH08-6-000.

Applicants: The Goldman Sachs Group, Inc.

Description: FERC Form 65 B Waiver Notification of The Goldman Sachs Group, Inc.

Filed Date: 11/09/2007.

Accession Number: 20071109-5077.

Comment Date: 5 p.m. Eastern Time on Friday, November 30, 2007.

Docket Numbers: PH08-7-000.

Applicants: KKR 2006 Fund; KKR PEI Investments, L.P.; KKR Partners III, L.P.

Description: FERC Form 65 B Waiver Notification of KKR 2006 Fund, et al.

Filed Date: 11/09/2007.

Accession Number: 20071109-5080.

Comment Date: 5 p.m. Eastern Time on Friday, November 30, 2007.

Take notice that the Commission received the following electric reliability filings:

Docket Numbers: RR08-2-000.

Applicants: North American Electric Reliability Corp.

Description: North American Electric Reliability Corp et al. submits its request for approval of proposed revisions to the WECC bylaws and request for clarification under RR08-2.

Filed Date: 11/02/2007.

Accession Number: 20071107-0171.

Comment Date: 5 p.m. Eastern Time on Monday, December 03, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E7-22651 Filed 11-19-07; 8:45 am]

BILLING CODE 6717-01-P